DEPARTMENT OF HEALTH AND HUMAN SERVICES

Health Resources and Services Administration

Council on Graduate Medical Education; Notice of Meeting

In accordance with section 10(a)(2) of the Federal Advisory Committee Act (Public Law 92-463), announcement is made of the following National Advisory body scheduled to meet during the month of September:

Name: Council on Graduate Medical Education (COGME).

Date and Time: September 11, 2002, 8:30 a.m.-4:30 p.m., September 12, 2002, 8 a.m.-11:15 a.m.

Place: Holiday Inn Select, Versailles 1, 8120 Wisconsin Avenue, Bethesda, MD 20814.

The meeting is open to the public.

Agenda: The agenda for September 11 will include: Welcome and opening comments from the Associate Administrator for Health Professions, the Chair of COGME, and the Acting Executive Secretary of COGME. There will be a panel of speakers on the topic of “Competencies in Graduate Medical Education” and a panel of speakers on the topic of “Financial Situation of Teaching Hospitals.”

In the afternoon the Council's three workgroups will convene. They are: Workgroup on Diversity, Workgroup on Graduate Medical Education Financing, and Workgroup on Workforce.

The agenda for September 12 will include a discussion of the June 17-18 Health Professions Education Summit co-sponsored by the Council on Graduate Medical Education (COGME), the National Advisory Council on Nurse Education and Practice, and the Institute of Medicine. The three workgroup chairs will give their reports. There will be a discussion of the status of COGME's 2002 Summary Report, plans for future work, and new business.

Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857, Telephone (301) 443-6326.

Agenda items are subject to change as priorities dictate.

Dated: July 2, 2002.
Jane M. Harrison,
Director, Division of Policy Review and Coordination.

[FR Doc. 02-17047 Filed 7-5-02; 8:45 am]

BILLING CODE 4165-15-P